DEPARTMENT OF DEFENSE

Office of the Secretary

[Docket ID: DoD-2024-OS-0033]

Privacy Act of 1974; System of Records

AGENCY: Defense Manpower Data Center (DMDC), Department of Defense (DoD).

ACTION: Notice of a modified system of records.

SUMMARY: In accordance with the Privacy Act of 1974, the Office of the Secretary of Defense is modifying and reissuing a current system of records titled, “Joint Duty Assignment Management Information System (JDAMIS),” DMDC 05. The records are used for the purpose of tracking military officers in joint duty assignments and to document Joint Qualified Officer levels. Records are also used as a management tool for analyzing statistics, tracking, reporting as required by Congress, evaluating program effectiveness, and conducting research. This system of records name is changing from “Joint Duty Assignment Management Information System” to “Joint Management Information System (JMIS).” In addition to the name change, this system of records is being updated to incorporate the DoD standard routine uses (routine uses A through J). The DoD is also modifying various other sections within the SORN to improve clarity or update information that has changed.

DATES: This system of records is effective upon publication; however, comments on the Routine Uses will be accepted on or before May 9, 2024. The Routine Uses are effective at the close of the comment period.

ADDRESSES: You may submit comments, identified by docket number and title, by either of the following methods:

* Federal eRulemaking Portal: https://www.regulations.gov. Follow the instructions for submitting comments.

* Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Mr. Samuel Peterson, DHRA Component Privacy Officer, 400 Gigling Rd., Rm. DODC-MB 7028, Seaside, CA 93955, dodhra.mc-alex.dhra-hq.mbx.privacy@mail.mil or 831-220-7330.

SUPPLEMENTARY INFORMATION:

I. Background

The Joint Management Information System (JMIS) records are used to track military officers in joint duty assignments and to document Joint Qualified Officer levels. Records are also used as a management tool for analyzing statistics, tracking, reporting as required by Congress, evaluating program effectiveness, and conducting research. This system of records name is changing from “Joint Duty Assignment Management Information System” to “Joint Management Information System (JMIS).” Subject to public comment, the OSD will add the standard DoD routine uses (A through J). Additional modifications are as follows: (1) to the System Location and System Manager section to update the address; (2) to the Purpose section to clarify the scope of the collection; (3) to the Categories of Records section to remove the SSN and replace it with the DoD ID number; (4) to the Records Source Categories to add additional sources; (5) to the Administrative, Technical, and Physical Safeguards section to update the individual safeguards protecting the personally identifiable information; and (6) to the Record Access, Notification, and Contesting Record Procedures section, to reflect the need for individuals to identify the appropriate DoD office and/or component to direct their request and to update the appropriate citation for contesting records. Furthermore, this notice includes non-substantive changes to simplify the formatting and text of the previously published notice.

DoD SORNs have been published in the Federal Register and are available from the address in FOR FURTHER INFORMATION CONTACT or on the Privacy and Civil Liberties Directorate website at https://dpcld.defense.gov/privacy.

II. Privacy Act

Under the Privacy Act, “a system of records” is a group of records under the control of an agency from which information is retrieved by the name of an individual or by some identifying number, symbol, or other identifying point assigned to the individual. In the Privacy Act, an individual is defined as a U.S. citizen or lawful permanent resident.

In accordance with 5 U.S.C. 552a(r) and Office of Management and Budget (OMB) Circular No. A-108, OATSD(PCLT) has provided a report of this system of records to the OMB and to Congress.

Dated: April 2, 2024.
Aaron T. Siegel,
Alternate OSD Federal Register Liaison Officer, Department of Defense.

SYSTEM NAME AND NUMBER:

Joint Management Information System (JMIS), DMDC 05.

SECURITY CLASSIFICATION:

Unclassified.

SYSTEM LOCATION:

Defense Manpower Data Center Privacy Office, DoD Center Monterey Bay, 400 Gigling Road, Seaside, CA 93955-6784.

SYSTEM MANAGER(S):

Deputy Director, Defense Manpower Data Center, 4800 Mark Center Drive, Alexandria, VA 22350-6000. Email: dodhra.dodc-mb.dmdc.mbx.webmaster@mail.mil.

AUTHORITY FOR MAINTENANCE OF THE SYSTEM:

10 U.S.C. Chapter 38, Joint Officer Management; 10 U.S.C. Chapter 107, Professional Military Education; 10 U.S.C. 136, Under Secretary of Defense for Personnel and Readiness; Chairman of the Joint Chiefs of Staff Instruction 1330.05, Joint Officer Management Program Procedures; DoD Instruction 1300.19, DoD Joint Officer Management (JOM) Program; and E.O. 9397 (SSN), as amended.

PURPOSE(S) OF THE SYSTEM:

To enable consolidated tracking of joint experiences for the purpose of awarding joint qualification experience and training and to provide an annual report to Congress as required by title 10, chapter 38, section 667. Records are also used as a management tool for analyzing statistics, tracking, reporting to Congress, evaluating program effectiveness, and conducting research.

CATEGORIES OF INDIVIDUALS COVERED BY THE SYSTEM:

All military officers of the U.S. Armed Forces who: (1) are serving or have served in billets designated as joint duty assignment positions; are attending or have completed joint professional military education schools; are designated as joint qualified at various levels of qualification; or, (2) are eligible to be nominated and designated at various joint qualification levels and have earned approved joint experience or discretionary points.

CATEGORIES OF RECORDS IN THE SYSTEM:

Personal Information such as: name, DoD ID Number, date of birth, gender, race, and ethnicity. Employment Information such as: rank, date of rank, military branch, occupation, duty station, joint professional military education status, pay grade, joint qualification level, skill code, departure reason, DoD email address, billets such as service, unit identification code, tour length, job title, and critical billet code.

RECORDS SOURCE CATEGORIES:

Records and information stored in this system of records are obtained from: Individuals, DMDC Data Center Data Base; Defense Enrollment Eligibility Reporting System; Military Services, and Office of the Joint Chiefs of Staff.

ROUTINE USES OF RECORDS MAINTAINED IN THE SYSTEM, INCLUDING CATEGORIES OF USERS AND PURPOSES OF SUCH USES:

In addition to those disclosures generally permitted under 5 U.S.C. 552a(b) of the Privacy Act of 1974, as amended, all or a portion of the records or information contained herein may specifically be disclosed outside the DoD as a routine use pursuant to 5 U.S.C. 552a(b)(3) as follows:

A. To contractors, grantees, experts, consultants, students, and others performing or working on a contract, service, grant, cooperative agreement, or other assignment for the Federal Government when necessary to accomplish an agency function related to this system of records.

B. To the appropriate Federal, State, local, territorial, Tribal, foreign, or international law enforcement authority or other appropriate entity where a record, either alone or in conjunction with other information, indicates a violation or potential violation of law, whether criminal, civil, or regulatory in nature.

C. To any component of the Department of Justice for the purpose of representing the DoD, or its components, officers, employees, or members in pending or potential litigation to which the record is pertinent.

D. In an appropriate proceeding before a court, grand jury, or administrative or adjudicative body or official, when the DoD or other Agency representing the DoD determines that the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines that information from this system of records is reasonably necessary to assist the recipient agency or entity in (1) responding to a suspected or confirmed breach; or (2) preventing, minimizing, or remedying the risk of harm to individuals, the recipient agency or entity (including its information systems, programs and operations), the Federal Government, or national security, resulting from a suspected or confirmed breach.

I. To another Federal, State, or local agency for the purpose of comparing to the agency's system of records or to non-Federal records, in coordination with an Office of Inspector General in conducting an audit, investigation, inspection, evaluation, or some other review as authorized by the Inspector General Act of 1987, as amended.

J. To such recipients and under such circumstances and procedures as are mandated by Federal statute or treaty.

POLICIES AND PRACTICES FOR STORAGE OF RECORDS:

Electronic storage media.

POLICIES AND PRACTICES FOR RETREIVAL OF RECORDS:

Records may be retrieved by name and DoD ID Number.

POLICES AND PRACTICES FOR RETENTION AND DISPOSAL OF RECORDS:

Records are retained for 5 years or until no longer needed for operational purposes—whichever is later, and then destroyed.

ADMINISTRATIVE, TECHNICAL AND PHYSICAL SAFEGUARDS:

Computerized records are maintained in a controlled area accessible only to authorized personnel. Entry to these areas is restricted to those personnel with a valid requirement and authorization to enter. Physical entry is restricted using locks, guards, and administrative procedures (e.g., fire protection regulations). Access to personal information is restricted to those who require the records in the performance of their official duties, and to the individuals who are the subjects of the record or their authorized representatives. Access to personal information is further restricted using passwords, which are changed periodically. All individuals granted access to this system of records are to have received Information Assurance and Privacy Act training.

RECORDS ACCESS PROCEDURES:

Individuals seeking access to their records should address written inquiries to the Office of the Secretary of Defense/Joint Staff, Freedom of Information Act Requester Service Center, 1155 Defense Pentagon, Washington, DC 20301-1155. Signed, written requests should contain the name and number of this system of records notice along with name, DoD ID Number, current address, and telephone number. In addition, the requester must provide either a notarized statement or an unsworn declaration made in accordance with 28 U.S.C. 1746, in the appropriate format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, for contesting contents, and appealing initial agency determinations are contained in 32 CFR part 310; or may be obtained from the system manager.

NOTIFICATION PROCEDURES:

Individuals seeking to determine whether information about themselves is contained in this system of records should follow the instructions for Record Access Procedures above.

EXEMPTIONS PROMULGATED FOR THE SYSTEM:

None.

HISTORY:

October 29, 2015, 80 FR 66510. March 15, 2011, 76 FR 13992.

[FR Doc. 2024-07476 Filed 4-8-24; 8:45 am]

BILLING CODE 6001-FR-P